DEPARTMENT OF HOMELAND SECURITY

Coast Guard

33 CFR Part 117

[Docket No. USCG-2012-1063]

Drawbridge Operation Regulation; Atlantic Intracoastal Waterway, Biscayne Bay, and Miami River, Miami, FL

AGENCY: Coast Guard, DHS.

ACTION: Notice of temporary deviations from regulations.

SUMMARY: The Coast Guard has issued temporary deviations from the regulations governing the operation of the following four bridges in Miami, Florida: The Venetian Causeway Bridge (West), mile 1088.6, across the Atlantic Intracoastal Waterway; the Venetian Causeway Bridge (East), across Biscayne Bay; the Miami Avenue Bridge, mile 0.3, across the Miami River; and the Brickell Avenue Bridge, mile 0.1, across the Miami River. The deviations are necessary to allow for race participants to traverse the bridges during the ING Marathon. This deviation will result in the bridges remaining in the closed position during the ING Marathon. Tugs and tugs with tows are not exempt from this deviation.

DATES: These deviations are effective from 6 a.m. through 1 p.m. on January 27, 2013.

ADDRESSES: The docket for this temporary deviation, USCG-2012-1063, is available online by going to http://www.regulations.gov, inserting USCG-2012-1063 in the “Search” box and then clicking “Search”. The docket is also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this temporary deviation, call or email Michael Lieberum, Seventh District Bridge Branch, Coast Guard; telephone (305) 415-6744, email Michael.B.Lieberum@uscg.mil. If you have questions on viewing the docket, call Renee V. Wright, Program Manager, Docket Operations, telephone (202) 366-9826.

SUPPLEMENTARY INFORMATION: The ING Marathon Director has requested temporary modifications to the operating schedules of the Venetian Causeway Bridge (West), the Venetian Causeway Bridge (East), the Brickell Avenue Bridge, and the Miami Avenue Bridge in Miami, Florida. These deviations will result in the bridges remaining in the closed position during the ING Marathon on January 27, 2013. The ING Marathon route passes over these four bridges. Any bridge opening would disrupt the race. The temporary deviations will be in effect from 6 a.m. through 1 p.m. on January 27, 2013.

The vertical clearance, regular operating schedule, and deviation period for each bridge are set forth below.

1. Venetian Causeway Bridge (West), mile 1088.6. The vertical clearance of the Venetian Causeway Bridge (West), across the Atlantic Intracoastal Waterway, is 12 feet. The normal operating schedule for the Venetian Causeway Bridge (West) is set forth in 33 CFR 117.261(nn), which requires the bridge to open on signal, except that from 7 a.m. to 7 p.m., Monday through Friday, except Federal holidays, the bridge need only open on the hour and half-hour. As a result of this temporary deviation, the Venetian Causeway Bridge (West) will remain closed to navigation from 6:10 a.m. to 9:56 a.m. on January 27, 2013.

2. Venetian Causeway Bridge (East). The vertical clearance of the Venetian Causeway Bridge (East), across Biscayne Bay, is 5 feet. The normal operating schedule for the Venetian Causeway Bridge (East) is set forth in 33 CFR 117.269, which requires the bridge to open on signal, except that from 7 a.m. to 7 p.m., Monday through Friday, except Federal holidays, the bridge need only open on the hour and half-hour. As a result of this temporary deviation, the Venetian Causeway Bridge (East) will remain closed to navigation from 6 a.m. to 9:15 a.m. on January 27, 2013.

3. Miami Avenue Bridge, mile 0.3. The vertical clearance of the Miami Avenue Bridge, across the Miami River, is 21 feet. The normal operating schedule for the Miami Avenue Bridge is set forth in 33 CFR 117.305(c), which requires the bridge to open on signal, except that from 7:35 a.m. to 8:59 a.m., 12:05 p.m. to 12:59 p.m., and 4:35 p.m. to 5:59 p.m., Monday through Friday, except Federal holidays, the bridge need not open for the passage of vessels. As a result of this temporary deviation, the Miami Avenue Bridge will remain closed to navigation from 6:25 a.m. to 10:35 a.m. on January 27, 2013.

4. Brickell Avenue Bridge, mile 0.1. The vertical clearance of the Brickell Avenue Bridge, across the Miami River, is 23 feet. The normal operating schedule for the Brickell Avenue Bridge is set forth in 33 CFR 117.305(d), which requires the bridge to open on signal; except that from 7 a.m. to 7 p.m., Monday through Friday, except Federal holidays, the bridge need open only on the hour and half-hour. From 7:35 a.m. to 8:59 a.m., 12:05 p.m. to 12:59 p.m., and 4:35 p.m. to 5:59 p.m., Monday through Friday, except Federal holidays, the bridge need not open for the passage of vessels. As a result of this temporary deviation, the Brickell Avenue Bridge will remain closed to navigation from 6:25 a.m. to 1 p.m. on January 27, 2013.

In accordance with 33 CFR 117.35(e), these four drawbridges must return to their regular operating schedules immediately at the end of the effective period of this temporary deviation. These deviations from the operating regulations are authorized under 33 CFR 117.35.

Dated: December 11, 2012.
B.L. Dragon,
Bridge Program Director, Seventh Coast Guard District.

[FR Doc. 2012-30840 Filed 12-20-12; 8:45 am]

BILLING CODE 9110-04-P